SMALL BUSINESS ADMINISTRATION

[Disaster Declaration #15283; MISSISSIPPI Disaster Number MS-00102 Declaration of Economic Injury]

Administrative Declaration of an Economic Injury Disaster for the State of Mississippi

AGENCY: U.S. Small Business Administration.

ACTION: Notice.

SUMMARY: This is a notice of an Economic Injury Disaster Loan (EIDL) declaration for the State of Mississippi, dated September 1, 2017.

DATES: Issued on 09/01/2017.

Economic Injury (EIDL) Loan Application Deadline Date: 06/01/2018.

ADDRESS: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: Notice is hereby given that as a result of the Administrator's EIDL declaration, applications for economic injury disaster loans may be filed at the address listed above or other locally announced locations.

Incident: City of Vicksburg's Main Waterline Rupture.

Incident Period: 05/17/2017 through 05/24/2017.

The following areas have been determined to be adversely affected by the disaster:

Primary Counties: Warren

Contiguous Counties:

Mississippi: Claiborne, Hinds, Issaquena, Yazoo

Louisiana: East Carroll, Madison, Tensas

The Interest Rates are:

| Percent
Businesses and Small Agricultural Cooperatives Without Credit Available Elsewhere | 3.215
Non-Profit Organizations Without Credit Available Elsewhere | 2.500

The number assigned to this disaster for economic injury is 152830.

The States which received an EIDL Declaration # are Mississippi, Louisiana.

(Catalog of Federal Domestic Assistance Number 59008)

Dated: September 1, 2017.
Linda E. McMahon,
Administrator.

[FR Doc. 2017-19317 Filed 9-11-17; 8:45 am]

BILLING CODE 8025-01-P